DEPARTMENT OF JUSTICE

Antitrust Division

Notice Pursuant to the National Cooperative Research and Production Act of 1993—Quallion LLC: Rechargeable Batteries and Battery Management Systems

Notice is hereby given that, on June 27, 2000, pursuant to section 6(a) of the National Cooperative Research and Production Act of 1993, 15 U.S.C. 4301 et seq. (“the Act”), Quallion LLC has filed written notifications simultaneously with the Attorney General and the Federal Trade Commission disclosing (1) the identifies of the parties and (2) the nature and objectives of a cooperative research venture. The notifications were filed for the purpose of invoking the Act's provisions limiting the recovery of antitrust plaintiffs to actual damages under specified circumstances. Pursuant to section 6(b) of the Act, the identities of the parties are Quallion LLC, Valencia, CA; Teledyne Electronic Technologies, Los Angeles, CA; The Alfred E. Mann Foundation, Valencia, CA; and Argonne National Laboratory, Argonne, IL. The nature and objectives of the venture are to conduct research on rechargeable batteries and battery management systems. The activities of this joint venture will be partially funded by an award from the Advanced Technology Program, National Institute of Standards and Technology, Department of Commerce.

Constance K. Robinson,
Director of Operations, Antitrust Division.

[FR Doc. 01-6888 Filed 3-19-01; 8:45 am]

BILLING CODE 4410-11-M